DEPARTMENT OF HEALTH AND HUMAN SERVICES

National Institutes of Health

Submission for OMB review; 30-Day Comment Request; Collection of Customer Service, Demographic, and Smoking/Tobacco Use Information From the National Cancer Institute's Cancer Information Service (CIS) Clients (NCI)

SUMMARY: Under the provisions of Section 3507(a)(1)(D) of the Paperwork Reduction Act of 1995, the National Cancer Institute (NCI), the National Institutes of Health (NIH), has submitted to the Office of Management and Budget (OMB) a request for review and approval of the information collection listed below. This proposed information collection was previously published in the Federal Register on September 28, 2015, Vol. 80, page 58268 and allowed 60-days for public comment. One public comment was received. The purpose of this notice is to allow an additional 30 days for public comment. The National Cancer Institute (NCI), National Institutes of Health, may not conduct or sponsor, and the respondent is not required to respond to, an information collection that has been extended, revised, or implemented on or after October 1, 1995, unless it displays a currently valid OMB control number.

DATES: Comment Due Date: Comments regarding this information collection are best assured of having their full effect if received within 30-days of the date of this publication.

FOR FURTHER INFORMATION CONTACT: To obtain a copy of the data collection plans and instruments or request more information on the proposed project contact: Mary Anne Bright, NCI Office of Communications and Public Liaison, 9609 Medical Center Drive, Rockville, MD 20850 or call non-toll-free number 240-276-6647 or Email your request, including your address to: brightma@mail.nih.gov. Formal requests for additional plans and instruments must be requested in writing.

Direct Comments to OMB: Written comments and/or suggestions regarding the item(s) contained in this notice, especially regarding the estimated public burden and associated response time, should be directed to the: Office of Management and Budget, Office of Regulatory Affairs, OIRA_submission@omb.eop.gov or by fax to 202-395-6974, Attention: NIH Desk Officer.

SUPPLEMENTARY INFORMATION: Proposed Collection: Collection of Customer Service, Demographic, and Smoking/Tobacco use Information from the National Cancer Institute's Cancer Information Service (CIS) Clients (NCI), 0925-0208, Expiration Date December 31, 2015, Revision, National Cancer Institute (NCI), National Institute of Health (NIH).

Need and Use of Information Collection. The National Cancer Institute (NCI) currently collects: (1) Customer service and demographic information from clients of the Cancer Information Service (CIS) in order to properly plan, implement, and evaluate cancer education efforts, including assessing the extent by which the CIS reaches and impacts underserved populations; (2) smoking/tobacco use behavior of individuals seeking NCI's smoking cessation assistance through the CIS in order to provide smoking cessation services tailored to the individual client's needs and track their smoking behavior at follow up. This is a request for OMB to approve a revised submission for an additional three years to provide ongoing customer service collection of demographic information, and collection of brief customer satisfaction questions from NCI Cancer Information Service (CIS) Clients for the purpose of program planning and evaluation.

OMB approval is requested for 3 years. There are no costs to respondents other than their time. The total estimated annualized burden hours are 3,387.

Estimated Annualized Burden Hours
Type of respondents | Survey instrument | Number of respondents | Frequency of responses | Average time per response (minutes/hour) | Annual burden hours
Telephone Clients | Customer Service | 65,500 | 1 | 1/60 | 1,092
| Demographic Questions | 23,580 | 1 | 2/60 | 786
Smoking Cessation Clients | Smoking Cessation “Intake” Questions | 5,707 | 1 | 4/60 | 380
| Demographic Questions | 3,995 | 1 | 2/60 | 133
VA Smoking Cessation Clients | Call Backs | 1,540 | 4 | 1/60 | 103
LiveHelp Clients | Demographic Questions | 6,119 | 1 | 2/60 | 204
Customer Satisfaction Survey | Survey Questions | 15,665 | 1 | 2/60 | 522
E-mail Clients | Email Intake Form | 1,000 | 1 | 10/60 | 167

Dated: December 16, 2015.
Karla Bailey,
NCI Project Clearance Liaison, National Institutes of Health.

[FR Doc. 2015-32095 Filed 12-21-15; 8:45 am]

BILLING CODE 4140-01-P